DEPARTMENT OF HOMELAND SECURITY

Coast Guard

33 CFR Part 117

[Docket No. USCG-2013-0319]

RIN 1625-AA09

Drawbridge Operation Regulation; Gulf Intracoastal Waterway, Treasure Island, FL

AGENCY: Coast Guard, DHS.

ACTION: Final rule.

SUMMARY: The Coast Guard is modifying the operating schedule that governs the Treasure Island Causeway Bridge, mile 119.0, Treasure Island, Florida. Changing the schedule from on signal to three times an hour during the week and twice an hour on the weekends will reduce vehicle traffic issues caused by the bridge openings while providing for the reasonable needs of navigation.

DATES: This rule is effective September 2, 2014.

ADDRESSES: Documents mentioned in this preamble are part of docket [USCG-2013-0319]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email, Mr. Gene Stratton, Chief Operations Section, Seventh Coast Guard District Bridge Branch at 305-415-6740, email allen.e.stratton@uscg.mil. If you have questions on viewing the docket, call Cheryl Collins, Program Manager, Docket Operations, telephone 202-366-9826.

SUPPLEMENTARY INFORMATION:

Table of Acronyms

DHS Department of Homeland Security

FR Federal Register

NPRM Notice of Proposed Rulemaking

§ Section Symbol

A. Regulatory History and Information

On November 13, 2013, we published a notice of proposed rulemaking (NPRM) entitled, “Drawbridge Operation Regulation; Gulf Intracoastal Waterway, Treasure Island, FL” in the Federal Register (78 FR 67999). We received no comments on the proposed rule. No public meeting was requested, and none was held.

B. Basis and Purpose

The Treasure Island Causeway Bridge crosses the Gulf Intracoastal Waterway at mile 119.0, Treasure Island, Pinellas County, Florida. This change would reduce the vehicle traffic back-ups caused by the opening of the bridge while providing for the reasonable needs of navigation.

The Treasure Island Bridge is a double-leaf bascule bridge that provides a vertical clearance of 21 feet in the closed position.

The City of Treasure Island requested a change to the Treasure Island Causeway Bridge regulation due to an increase in vehicle traffic in this area. Based on the bridge logs, this bridge opens on average less than twice an hour on signal. Fewer scheduled openings at regular intervals between 7 a.m. and 7 p.m. would reduce the vehicle traffic back-ups caused by the opening of the bridge.

C. Discussion of Comments and Changes

The Coast Guard provided a comment period of 90 days and no comments were received. No changes have been made to the proposed rule.

D. Discussion of Final Rule

The current operating regulation governing the Treasure Island Causeway Bridge at 33 CFR 117.267(g) was for the old bridge which required the bridge to open four times per hour on the quarters between 7 a.m. and 7 p.m. and to open on signal if at least ten minutes advance notice was given between 11 p.m. and 7 a.m. However, since the old bridge was replaced, the new bridge has been operating under 33 CFR 117.5 which requires the bride to open on signal. This final rule allows the bridge to open three times an hour during the week and twice an hour on the weekends which will reduce vehicle traffic congestion through this area by requiring less frequent openings. The Coast Guard does not anticipate longer bridge opening periods due to an accumulation of vessels, since the bridge currently opens less than twice an hour on average.

E. Regulatory Analyses

We developed this rule after considering numerous statutes and executive orders related to rulemaking. Below we summarize our analyses based on these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Order 12866 or under section 1 of Executive Order 13563. The Office of Management and Budget has not reviewed it under those Orders.

This action will have a minor impact on vessels transiting the Gulf Intracoastal Waterway in the vicinity of Treasure Island, Florida as vessels will still be able to transit the bridge on specific intervals and this action will still meet the reasonable needs of navigation. This action is designed to improve vehicle traffic flow in downtown Treasure Island.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

This action will not have a significant economic impact on a substantial number of small entities for the following reasons: This bridge generally does not open but two to three times an hour on a regular basis. Placing a regulation on this bridge, reducing these openings, will not unreasonably disrupt vessels transiting the Gulf Intracoastal Waterway in this area.

3. Collection of Information

This rule calls for no new collection of information under the Paperwork Reduction Act of 1995 (44 U.S.C. 3501-3520).

4. Federalism

A rule has implications for federalism under Executive Order 13132, Federalism, if it has a substantial direct effect on the States, on the relationship between the national government and the States, or on the distribution of power and responsibilities among the various levels of government. We have analyzed this rule under that Order and have determined that it does not have implications for federalism.

5. Protest Activities

The Coast Guard respects the First Amendment rights of protesters. Protesters are asked to contact the person listed in the FOR FURTHER INFORMATION CONTACT section to coordinate protest activities so that your message can be received without jeopardizing the safety or security of people, places or vessels.

6. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

7. Taking of Private Property

This rule will not cause a taking of private property or otherwise have taking implications under Executive Order 12630, Governmental Actions and Interference with Constitutionally Protected Property Rights.

8. Civil Justice Reform

This rule meets applicable standards in sections 3(a) and 3(b)(2) of Executive Order 12988, Civil Justice Reform, to minimize litigation, eliminate ambiguity, and reduce burden.

9. Protection of Children

We have analyzed this rule under Executive Order 13045, Protection of Children From Environmental Health Risks and Safety Risks. This rule is not an economically significant rule and does not create an environmental risk to health or risk to safety that might disproportionately affect children.

10. Indian Tribal Governments

This rule does not have tribal implications under Executive Order 13175, Consultation and Coordination With Indian Tribal Governments, because it does not have a substantial direct effect on one or more Indian tribes, on the relationship between the Federal Government and Indian tribes, or on the distribution of power and responsibilities between the Federal Government and Indian tribes.

11. Energy Effects

This action is not a “significant energy action” under Executive Order 13211, Actions Concerning Regulations That Significantly Affect Energy Supply, Distribution, or Use.

12. Technical Standards

This rule does not use technical standards. Therefore, we did not consider the use of voluntary consensus standards.

13. Environment

We have analyzed this rule under Department of Homeland Security Management Directive 023-01 and Commandant Instruction M16475.lD, which guides the Coast Guard in complying with the National Environmental Policy Act of 1969 (NEPA) (42 U.S.C. 4321-4370f), and have concluded that this action is one of a category of actions that do not individually or cumulatively have a significant effect on the human environment. This rule involves changing the open on demand bridge operating schedule to three times an hour Monday through Friday and twice an hour on Saturday, Sunday and Federal holidays and will meet the reasonable needs of navigation. This rule is categorically excluded, under figure 2-1, paragraph (32)(e), of the Instruction.

Under figure 2-1, paragraph (32)(e), of the Instruction, an environmental analysis checklist and a categorical exclusion determination are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. In § 117.287, revise paragraph (g) to read as follows:

§ 117.287 Gulf Intracoastal Waterway.

* * * * *

(g) The draw of the Treasure Island Causeway bridge, mile 119.0 shall open on signal except that from 7 a.m. to 7 p.m. the draw need open on the hour, 20 minutes after the hour and 40 minutes after the hour Monday through Friday and on the quarter hour and three quarter hour on Saturday, Sunday and Federal holidays.

* * * * *

Dated: June 18, 2014.
J. H. Korn,
Rear Admiral, U.S. Coast Guard, Commander, Seventh Coast Guard District.

[FR Doc. 2014-18079 Filed 7-30-14; 8:45 am]

BILLING CODE 9110-04-P